DEPARTMENT OF TRANSPORTATION

Surface Transportation Board

[STB Docket No. AB-290 (Sub-No. 237X)]

Norfolk Southern Railway Company—Abandonment Exemption—in Baltimore County, MD

Correction

In notice document 05-24626 beginning on page 168 in the issue of Tuesday, January 3, 2006, make the following correction:

On page 168, in the second column, under DEPARTMENT OF TRANSPORTATION, in the first paragraph, line 10 of the text, “UU-12.8” should read “UU-13.8”.

Vernon A. Williams,
Secretary.

[FR Doc. 06-1416 Filed 2-15-06; 8:45 am]

BILLING CODE 4915-01-P